DEPARTMENT OF HEALTH AND HUMAN SERVICES

Health Resources and Services Administration

Poison Control Program; Poison Control Centers Stabilization and Enhancement Grant Program, Financial Stabilization Supplemental Grants (PCCFS); Availability of Funds in the HRSA Preview; Withdrawal (CFDA Number 93.253)

AGENCY: Health Resources and Services Administration, HHS.

ACTION: Notice; withdrawal.

SUMMARY: In the Federal Register notice of Friday, August 9, 2002, in Part VI “Availability of Funds Announced in the HRSA Preview” of FR Doc. 02-20021, on page 52087, the grant category beginning in the first column under the heading “Poison Control Centers Stabilization and Enhancement Grant Program, Financial Stabilization Supplemental Grants (PCCFS), CFDA Number 93.253,” is withdrawn from competition due to the discovery of unanticipated complex issues that are not resolvable within a timeframe which would permit the awarding of these grants during fiscal year 2003.

FOR FURTHER INFORMATON: Carol A. Delany, Division of Children, Adolescent and Family Health, Maternal and Child Health Bureau, Health Resources and Services Administration, Room 18A-38, Parklawn Building, 5600 Fishers Lane, Rockville, MD 20857; telephone, (301) 443-5848.

Dated: April 7, 2003.
Elizabeth M. Duke,
Administrator.

[FR Doc. 03-8973 Filed 4-11-03; 8:45 am]

BILLING CODE 4165-15-P